DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, March 06, 2024, 10:00 a.m. to March 06, 2024, 04:00 p.m., National Institutes of Health, NIDDK, Democracy II, Suite 7000A, 6707 Democracy Boulevard, Bethesda, MD 20892 which was published in the Federal Register on November 07, 2023, 88 FR 77326.

This meeting notice is amended to change the date from 3/06/2024 to 3/05/2024. The meeting is closed to the public.

Dated: January 9, 2024.
Miguelina Perez,
Program Analyst, Office of Federal Advisory Committee Policy.

[FR Doc. 2024-00626 Filed 1-12-24; 8:45 am]

BILLING CODE 4140-01-P